DEPARTMENT OF DEFENSE

Department of the Army; Corps of Engineers

Joint Notice of Availability for the Draft Matagorda Ship Channel Project Integrated Feasibility Report and Environmental Impact Statement

AGENCY: Department of the Army, U.S. Army Corps of Engineers, DoD.

ACTION: Notice of availability.

SUMMARY: Pursuant to the National Environmental Policy Act (NEPA), the U.S. Army Corps of Engineers, Galveston District (USACE) announces the release of the Draft Integrated Feasibility Report and Environmental Impact Statement (DIFR-EIS) for the Tentatively Selected Plan of the Matagorda Ship Channel Improvement Project, Calhoun and Matagorda Counties, TX. The DIFR-EIS documents the existing condition of environmental resources in and around areas considered for development, and potential impacts on those resources as a result of implementing the alternatives.

DATES: The Galveston District will hold a public meeting for the DIFR-EIS on May 15, 2018 from 6:00-8:00 p.m. USACE will accept written public comments on the DIFR-EIS from May 7, 2018 to June 21, 2018. Comments on the DIFR-EIS must be postmarked by June 21, 2018.

ADDRESSES: The Public Meeting will be held at the Bauer Exhibit Building, 186 Henry Barber Way, County Road 101, Port Lavaca, TX 77979.

FOR FURTHER INFORMATION CONTACT: Questions and comments regarding the proposed draft EIS should be addressed to USACE, Galveston District, Attn: Dr. Harmon Brown, Environmental Compliance Branch, Regional Planning and Environmental Center, P.O. Box 1229, Galveston, TX 77553-1229; (409) 766-3837; harmon.brown@usace.army.mil.

SUPPLEMENTARY INFORMATION:

Authority: The lead agency for this proposed action is USACE. This study has been prepared under the authority of Section 216 of the 1970 Flood Control Act (Pub. L. 91-611), as amended. The non-Federal sponsor is the Calhoun Port Authority.

Background: This DIFR-EIS was prepared as required by the National Environmental Policy Act (NEPA) to present an evaluation of potential impacts associated with the Matagorda Ship Channel (MSC) Project Tentatively Selected Plan (TSP). The USACE and the non-Federal sponsor for the study, the Calhoun Port Authority, have conducted this study and prepared the DIFR-EIS. The purpose of this project is to reduce transportation costs and increase operational efficiencies of maritime commerce movement through the Port. The majority of deep-draft ships using the MSC have design drafts in excess of the operating depth of the channel. By expanding channel dimensions, cargo vessels could reduce or eliminate light loading measures, and larger cargo vessels could begin calling on the Port and adjacent facilities.

The need for changes to the MSC is derived from an analysis of current and projected vessel transits, cargo tonnage, and capacity at existing and proposed terminal facilities. This need is becoming more critical given increasing levels of maritime traffic, increasing vessel size, and the desire of Port users to capture transportation efficiencies. By expanding channel dimensions, cargo vessels could reduce or eliminate light loading measures, and larger cargo vessels, unable to transit the existing channel configuration, could begin calling on the Port and adjacent facilities.

The 26-mile MSC is located 125 miles southwest of Galveston, Texas and 80 miles northeast of Corpus Christi, Texas. The northern reach of the MSC is located in Calhoun County and the southern reach and Entrance Channel are in Matagorda County. The MSC is comprised of an Entrance Channel about four miles long from the Gulf through a man-made cut across Matagorda Peninsula, with dual jetties at the entrance from the Gulf. The Gulf Intracoastal Waterway (GIWW) intersects the channel approximately 2.5 miles north of the cut through Matagorda Peninsula. The bay-side channel is about 22 miles long across Matagorda and Lavaca Bays to Point Comfort with a turning basin at Point Comfort.

Offshore (Entrance Channel), the channel has a 300 foot (ft) bottom width, 10 (Horizontal): 1(Vertical) (H:V) side-slopes, and is maintained at a depth of 40 ft Mean Low Low Water (MLLW) plus three feet of advance maintenance depth and two feet of allowable over-depth. Through Matagorda Peninsula, the MSC is authorized to a depth of 38 ft MLLW, with a 300 ft bottom width. Generally, in Matagorda and Lavaca Bays, the channel has a 200 ft wide bottom width with 3H:1V side-slopes and is authorized to a project depth of 38 ft, plus two feet of advance maintenance depth and an additional two feet of allowable over-depth outside the advance maintenance dredging prism. The primary turning basin is maintained to a depth of 38 ft MLLW, and is 1,000 ft by 1,000 ft. Adjacent to the primary turning basin, there is also a 1,279 ft extension that is from the turning basin limit and runs along both the north and south sides of the Calhoun Port Authority pier. Mean natural water depth in Matagorda Bay is approximately 13 ft, while depth in the adjacent bays ranges from seven to eight feet.

Recommended Plan: The TSP entails deepening the channel to 47 ft MLLW, widening the entrance channel to 600 ft and the main channel to 350 ft. The size of the turning basin would be increased to 1,200 ft.

A final decision will be made following the reviews and higher-level coordination within the USACE to select a plan for feasibility-level design and recommendation for implementation. The decision will be documented in the Final Integrated Feasibility Report (FIFR)-EIS. A supplemental DIFR-EIS would not likely be produced unless there are substantial design changes that significantly alter environmental impacts. Coordination with the natural resource agencies will continue throughout the study process.

Project Impacts and Environmental Compliance: The recommended plan would result in the loss of approximately 19 acres of wetlands and 133 acres of oyster reef. Impacts would be fully compensated with the restoration of estuarine emergent marsh and oyster reef in the amount determined during final feasibility planning. Conservation measures identified by the National Marine Fisheries Service (NMFS) and U.S. Fish and Wildlife Service (USFWS) will be considered during this process. The proposed project is not expected to adversely affect federally listed threatened or endangered species.

The impact analysis determined there would be only minor impacts to soils and waterbottoms, water quality, turbidity, protected wildlife species (i.e., marine mammals, and migratory birds), benthic organisms, commercial and recreational fisheries, essential fish habitat, coastal barrier resources, air quality, and noise. No impacts to floodplains and flood control, salinity levels, protected/managed lands, or historic and cultural resources are anticipated. No impacts to minority or low-income populations are expected, and the proposed project would provide a long-term economic benefit to the shipping industry by improving efficiency and safety of commercial traffic in the Matagorda Ship Channel.

Solicitation of Comments: The USACE is soliciting comments from the public, Federal, State, and local agencies and officials, Indian tribes, and other interested parties in order to consider and evaluate the impacts of this proposed activity. Comments will be used in preparation of the FIFR-EIS.

Document Availability: Compact disc copies of the DIFR-EIS are available for viewing at the following libraries:

Matagorda Branch Library, 800 Fisher St., Matagorda, TX 74457.

Calhoun County Public Library, 200 West Mahan St., Port Lavaca, TX 77979.

The document can also be viewed and downloaded from the Galveston District website: http://www.swg.usace.army.mil/Business-With-Us/Planning-Environmental-Branch/Documents-for-Public-Review/.

Brenda S. Bowen,
Army Federal Register Liaison Officer.

[FR Doc. 2018-09480 Filed 5-3-18; 8:45 am]

BILLING CODE 3710-KF-P